DEPARTMENT OF ENERGY

Federal Energy Regulatory Commission

[Project No. 2662-002; Project No. 12968-001]

FirstLight Hydro Generating Company; City of Norwich Department of Public Utilities; Notice of Applications Tendered for Filing With the Commission and Establishing Procedural Schedule for Licensing and Deadline for Submission of Final Amendments

September 2, 2010.

Take notice that the following hydroelectric applications have been filed with the Commission and are available for public inspection.

a. Type of Applications: New Major License.

b. Project Nos.: 2662-002 and 12968-001.

c. Date Filed: August 31, 2010 (P-2662) and August 27, 2010 (P-12968).

d. Applicants: Existing licensee—FirstLight Hydro Generating Company (FirstLight); and Competitor—City of Norwich Department of Public Utilities (Norwich Public Utilities).

e. Name of Project: Scotland Hydroelectric Project.

f. Location: On the Shetucket River, in Windham County, Connecticut. The project does not occupy federal lands.

g. Filed Pursuant to: Federal Power Act, 16 U.S.C. 791 (a)-825(r).

h. Applicant Contact:

For Project No. 2662: John Whitfield, Senior Project Engineer, FirstLight Hydro Generating Company, 20 Church Street, Hartford, CT 06103.

For Project No. 12968: John F. Bilda, General Manager, Norwich Public Utilities, 16 South Golden Street, Norwich, CT 06360.

i. FERC Contact: John Costello, (202) 502-6119 or john.costello@ferc.gov

j. These applications are not ready for environmental analysis at this time.

k. The Project Description: The project includes the following constructed facilities: (1) A 480-foot-long earthen dam with a 12-inch reinforced concrete corewall consisting of (a) A 183-foot-long, 32.5-foot-high earthen dike with a top elevation 90.0 feet local datum; (b) a 119-foot-long, 34-foot-high Taintor gate section with a sill elevation at 64 feet local datum and a 3-foot-wide transition section, five 20-foot-wide bays, and four 4-foot-wide gate piers; (c) an 89-foot-long, 35-foot-high Ambursen-type ungated spillway section with a crest elevation of 75.38 feet local datum; (d) an 18.83-foot-long gravity-type ungated spillway section with a crest elevation of 75.38 feet local datum and 30-inch wooden pin-type flashboards; and (e) a 70-foot-long powerhouse and intake integral with the dam containing a single 2,000 kW turbine-generator; (2) a 134-acre reservoir at an elevation of 77.9 feet local datum with a usable storage capacity of 268 acre-feet at a drawdown of 2 feet; and (3) appurtenant facilities.

The existing Scotland project operates in a run-of-river mode during high flow periods and a store-and-release mode, with ponding, during low-flow periods.

Both applicants propose to increase capacity by installing an additional turbine and generator in the existing powerhouse. Norwich Public Utilities' proposal would increase capacity by 3.0 MW. FirstLight's proposal would increase capacity by 1.026 MW. Both applicants propose to operate the project in a run-of-river mode.

l. Locations of the Applications: Copies of the applications are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Copies are also available for inspection and reproduction at the addresses in item (h) above.

m. You may also register online at http://www.ferc.gov/docs-filing/esubscription.asp to be notified via e-mail of new filings and issuances related to this or other pending projects. For assistance, contact FERC Online Support.

n. Procedural Schedule:

The applications will be processed according to the following Hydro Licensing Schedule. Revisions to the schedule may be made as appropriate.

Milestone | Target date
Notice of Acceptance/Notice of Ready for Environmental Analysis (when FERC approved studies are complete) | November 11, 2010.
Filing of recommendations, preliminary terms and conditions, and fishway prescriptions | December 29, 2010.
Commission issues EA | June 13, 2011.
Comments on EA or EIS | July 13, 2011.
Modified terms and conditions | September 11, 2011.

o. Final amendments to the applications must be filed with the Commission no later than 30 days from the issuance date of the notice of ready for environmental analysis.

Kimberly D. Bose,
Secretary.

[FR Doc. 2010-22515 Filed 9-9-10; 8:45 am]

BILLING CODE 6717-01-P